ENVIRONMENTAL PROTECTION AGENCY

[A-1-FRL-9925-92-Region 1]

Notice of Decision To Issue A Clean Air Act Permit Modification For Northeast Gateway Energy Bridge, LLC

AGENCY: Environmental Protection Agency (EPA).

ACTION: Notice of final action.

SUMMARY: This notice announces that EPA Region 1 issued a final permit decision for a Clean Air Act (CAA) permit modification (Permit number RG1-DPA-CAA-01M) to Northeast Gateway Energy Bridge, LLC for the operation of the Northeast Gateway Deepwater Port.

DATES: EPA Region 1 issued a final CAA permit modification decision for the Northeast Gateway Deepwater Port on December 30, 2014. The CAA permit modification for the Northeast Gateway Deepwater Port became final and effective on December 30, 2014. Pursuant to Section 307(b)(1) of the Clean Air Act, 42 U.S.C. 7607(b)(1), judicial review of this final permit decision, to the extent it is available, may be sought by filing a petition for review in the United States Court of Appeals for the First Circuit within 60 days of April 8, 2015.

ADDRESSES: Documents relevant to the above-referenced permit are available for public inspection between 9:00 a.m. and 4:00 p.m. at EPA Region 1's Boston office, John W. McCormack Post Office and Courthouse Building, 5 Post Office Square, Boston, MA. These materials may also be obtained on-line at EPA Region 1's Web site at http://www.epa.gov/region1/communities/nsemissions.html.

FOR FURTHER INFORMATION CONTACT: Patrick Bird, Air Permits, Toxics and Indoor Programs Unit, Environmental Protection Agency, EPA Region 1, (617) 918-1287, bird.patrick@epa.gov.

SUPPLEMENTARY INFORMATION: EPA Region 1, acting in accordance with provisions of the Deepwater Port Act and the CAA, issued a final CAA permit modification decision on December 30, 2014 to Northeast Gateway Energy Bridge, LLC for the operation of the Northeast Gateway Deepwater Port, located in federal waters off the coast of Massachusetts. Prior to the permit being finalized, a draft permit was issued, and the permit underwent a public comment period, which included a public hearing. EPA Region 1 received no comments during the public comment period. All conditions of the Northeast Gateway Deepwater Port modified permit (Permit number RG1-DPA-CAA-01M) became final and effective on December 30, 2014.

Dated: March 11, 2015.
Deborah A. Szaro,
Acting Regional Administrator, EPA Region 1.

[FR Doc. 2015-08087 Filed 4-7-15; 8:45 am]

BILLING CODE 6560-50-P